DEPARTMENT OF LABOR

Employment and Training Administration

[SGA No. DFA 02-102]

H-1B Technical Skills Training Grants

AGENCY: Employment and Training Administration (ETA), Labor.

ACTION: Notice of availability of funds and solicitation for grant applications (SGA). This notice contains all of the necessary information and forms needed to apply for grant funding.

SUMMARY: The Employment and Training Administration (ETA), U.S. Department of Labor (DOL), announces the availability of grant funds for skills training programs for unemployed and employed workers. These grants are financed by a user fee paid by employers to bring foreign workers into the U.S. under a new H-1B nonimmigrant visa or at visa renewal. As part of the H-1B nonimmigrant visa program, this skills training program was authorized under the American Competitiveness and Workforce Improvement Act of 1998 (ACWIA), as amended. The grants are intended to be a long-term solution to domestic skill shortages in high skill and high technology occupations. Grant awards will be made only to the extent that funds are available. Section 414(c) of ACWIA as amended, (Pub. L. 106-313; 114 Stat. 1257, 29 USC 2916a(2)(A)(ii)) specifies that the Secretary of Labor shall award 25 percent of the grants under these provisions for demonstration projects or programs under section 171 of the Workforce Investment Act (Pub. L. 105-220, 29 USC 2916) to partnerships that shall consist of at least two businesses or a business-related nonprofit organization that represents more than one business, and that may include any educational, labor, community organization, or workforce investment board, except that such grant funds may be used only to carry out a strategy that would otherwise not be eligible for funds provided through workforce investment boards under H-1b technical Skills Training Grants announced in the Federal Register on April 13, 2001 (66 FR 19209), due to barriers in meeting those partnership eligibility criteria, on a national, multi-state, regional, or rural area (such as rural telework programs) basis. Community organizations may include faith-based organizations. Grants will be distributed fairly across rural and urban areas and across geographic regions.

This solicitation describes the application submission requirements, the process that eligible entities must use to apply for funds covered by this solicitation, and how grantees will be selected. This solicitation is the first in a series to fund grants to business partnerships or business-related non-profits.

Approximately $20 million will be available for funding projects under in this solicitation, with six to 16 projects to be selected for funding. The maximum award of each grant will not exceed $3 million. It is anticipated that an additional $16 million will be available for funding projects covered in the 25% of this year's funding through the competitive process for a total $36 million committed to this effort.

DATES: Applications for grant awards will be accepted commencing immediately. The closing date for receipt of applications shall be February 12, 2002, at 4:00 p.m. (Eastern Time) at the address below.

ADDRESSES: Applications will be mailed to the U.S. Department of Labor, Employment and Training Administration, Division of Federal Assistance, Attention: Ella Freeman, SGA/DFA 02-102, 200 Constitution Avenue, NW., Room S-4203, Washington, DC 20210.

FOR FURTHER INFORMATION CONTACT: Questions should be faxed to Ella Freeman, Grants Management Specialist, Division of Federal Assistance, Fax (202) 693-2879. This is not a toll free number. All inquiries should include the SGA number (DFA 02-102) and a contact name, fax and phone number. This solicitation will also be published on the Internet on the Employment and Training Administration's Homepage at http://www.doleta.gov. Award notifications will also be published on this Homepage.

SUPPLEMENTARY INFORMATION: The Employment and Training Administration (ETA), U.S. Department of Labor (DOL), announces the availability of grant funds for skill training programs for unemployed and employed workers. These grants are financed by a user fee paid by employers to bring foreign workers into the U.S. under a new H-1B nonimmigrant visa or at visa renewal. As part of the H-1B nonimmigrant visa program, this skills training program was authorized under the American Competitiveness and Workforce Improvement Act of 1998 (“the Act”), as amended. The grants are intended to be a long-term solution to domestic skill shortages in high skill and high technology occupations.

The Act creates two separate grant programs. Seventy-five (75%) percent of the available grant funds will be awarded to Local Workforce Investment Boards (Local Boards) established under section 117 of the Workforce Investment Act (WIA) (Pub. L. 105-220, 29 USC 2832), or regional consortia of Local Boards. Regional consortia of boards may be interstate. Each Local Board or consortium of boards receiving grant funds must represent a local or regional public-private partnership that is comprised of at least: (i) One Local Board; (ii) one business or business-related non-profit organization such as a trade association; and (iii) one community-based organization or higher education institution or labor union. Community organizations may include faith-based organizations that will carry out such programs or projects through the One-Stop delivery systems established under section 121 of WIA (29 USC 2841). These funds were made available under H-1B Technical Skills Training Grants announced in the Federal Register on April 13, 2001 (66 FR 19209).

This SGA concerns the remaining 25 percent of the available funds that will be awarded to business partnerships that consist of at least two businesses or a business-related nonprofit organization that represents more than one business. The partnership may also include any educational, labor, community organization, or Local Board. Community organizations may include faith-based organizations. These grant funds may be used only to carryout a strategy that would otherwise not be eligible for the 75 percent funds discussed above. Applicants for the 25 percent funds must explain the barriers they faced in meeting the partnership eligibility criteria for the 75 percent funds—for example, the business partnerships may be on a national, multi-state, regional or rural area basis (such as rural telework programs).

ACWIA 2000 provides resources for skill training in high skill and high technology occupations that are in demand by U.S. business. One key measure of this demand is determined by the number of employer H-1B applications for foreign workers. For example, industries that appear to generate the most current H-1B demand are information technology (IT) and health care. Some examples of specific occupations that can be trained for through this initiative include: registered nurses with four-year degrees, physical therapists, and laboratory technicians. Appendix B to this solicitation provides information on the kinds of occupations certified under the H-1B program by the Department of Labor for the first five months of Fiscal Year 2000 (October 1, 1999 through February 29, 2000) and the number of job openings certified in each occupation.

This initiative will build on similar ETA initiatives that deal with the issue of skill shortages including the June 1998 dislocated worker technology demonstration, the new dislocated worker technology demonstration, the regional skills consortium building awards announced in March 2000, the individual training account demonstration grant awards announced in February 2000 and the skills strategies, partnership training/system building demonstration awards which were announced in June 2000. These efforts were intended to strengthen linkages between employers experiencing skill shortages in specific occupations and the publicly-funded workforce system. In June 1998, $7.5 million in JTPA Title III dislocated worker funds were awarded to 11 organizations throughout the country to train workers in skills related to the information technology industry. In June 1999, over $9.57 million was awarded to 10 grantees to train dislocated workers in the skills necessary to obtain work requiring advanced skills in occupations in manufacturing industry settings, including computers and electronics manufacturing, machinery and motor vehicles, chemicals and petroleum, specialized instruments and devices, and biomedics. On March 2, 2000, 23 awards totaling $15.2 million were announced for the regional skills consortium competition. Finally, this solicitation is taking into account the experience gained from the first, second and third rounds of the H-1B competition for which 9 awards totaling $12.4 million were announced on February 10, 2000, 12 awards totaling $29.2 million were announced on July 19, 2000, and 22 awards totaling $54.0 million were announced on October 20, 2000.

In this round, ETA is soliciting proposals on a competitive basis for the conduct of demonstration projects to provide technical skills training for workers, including both employed and unemployed workers.

This announcement consists of three parts:

• Part I—Application Process.

• Part II—Statement of Work/Reporting Requirements.

• Part III—Review Process/Rating Criteria.

Part I—Application Process

A. Eligible Applicants

ACWIA, as amended, specifies that grant funds may be used only to carry out a strategy that would otherwise not be eligible for funds provided under provisions establishing the Local Board-based grant, due to barriers in meeting those partnership eligibility criteria, on a national, multi-state, regional, or rural area (such as rural telework programs) basis. Such barriers might include the nationwide, regional or multi-state nature of the applicant firms' business or training needs or labor-management partnerships; a dispersed client base such as rural or other special populations; the use of a geographically dispersed network of education providers or innovative dispersed training methodologies (such as rural telework).

The applicant's proposal is expected to provide a detailed discussion of participating organizations' respective responsibilities. As required by ACWIA, ETA will give consideration in awarding grants to any proposal that demonstrates a significant ability to expand a training program or project through such means as training more workers or offering more courses, and training programs or projects resulting from collaborations, especially with more than one small business (which ACWIA defines as 100 employees or less) or with a labor-management training program or project. The need for training shall be justified through reliable regional, state or local data.

The application must clearly identify the applicant (or the fiscal agent), the grant recipient (and/or fiscal agent), and describe its capacity to administer this project. The fiscal agent may be one of the partner businesses, a business-related nonprofit organization, an educational institution, labor union, community-based organization (which may be faith-based), Local Board or related unit of state or local government.

Part III of this announcement enumerates and defines in depth a series of criteria that will be utilized to rate applicant submissions. Briefly, these criteria are:

I. Statement of Need

II. Service Delivery Strategy

III. Target Population

IV. Sustainability

V. Linkages with Key Partners

VI. Outcomes

VII. Cost Effectiveness

B. Submission of Proposals

Applicants must submit one original and two copies of their proposal. The proposal must consist of two (2) separate and distinct parts, Parts I and II.

Part I of the proposal must contain the Standard Form (SF) 424, “Application for Federal Assistance” (Appendix C) and the Budget Information Form (Appendix D). Upon confirmation of an award, the individual signing the SF 424 on behalf of the applicant shall represent the responsible financial and administrative entity.

In preparing the Budget Information form, the applicant must provide a concise narrative explanation to support the request. The statutory language of ACWIA, is specific in stating that grant resources are to be expended for programs or projects to provide technical skills training. The administrative costs are limited to no more than 10 percent of the request and must clearly support the goals of the project. An illustrative, but not exclusive, list of allowable and allocable types of administrative costs are provided in the WIA regulations at 20 CFR 667.200. Equipment purchases shall be limited to no more than the amount allocated for start-up costs. The budget narrative should discuss precisely how the administrative costs support the project goals.

ACWIA, limits the amount of start-up costs of partnerships or new training projects which may be charged to these grants (29 U.S.C. 2916a(3)). Except for partnerships of small businesses (100 employees or less), the limit is five percent of any single grant or costs not to exceed $75,000, whichever is less. For partnerships consisting primarily of small businesses (100 employees or less), the limit is ten percent of any single grant or a maximum of $150,000, whichever is less.

Part II must contain a technical proposal that demonstrates the Applicant's capabilities in accordance with the Statement of Work. A technical proposal of the grant application is limited to 25 double-spaced, single-sided, 8.5 inch x 11 inch pages with 1-inch margins. Text type shall be 11 point or larger. The Applicant may provide resumes, a staffing pattern, statistical information and related material in attachments which may not exceed 15 pages. Although not required, letters of commitment from partners or from those providing matching resources may be submitted as attachments. Such letters will count against the allowable maximum page total. The applicant must briefly itemize those participating entities in the text of the proposal. Applications that do not meet these requirements will not be considered. Each application must include a Time Line outlining project activities and an Executive Summary that is not to exceed two pages. The Time Line and the Executive Summary do not count against the 25 page limit. No cost data or reference to prices should be included in the technical proposal.

Grantee organizations will be subject to: ACWIA, these guidelines; the terms and the conditions of the grant and any subsequent modifications; applicable Federal laws (including provisions in appropriations law); all applicable requirements under H-1B Technical Skills Training Grants announced in the Federal Register on April 13, 2001 (66 FR 19209).

In addition, the grantee must ensure that each individual participating in this program has not violated section 3 of the Military Selective Service Act (50 U.S.C. App. 453) by not presenting and submitting to registration as required pursuant to such section.

Under section 18 of the Lobbying Disclosure Act of 1995 (2 U.S.C. 1611), an organization described in section 501(c)(4) of the Internal Revenue Code of 1986 that engages in lobbying activities will not be eligible for the receipt of federal funds constituting an award, grant, or loan.

Note: Except as specifically provided in this solicitation, DOL/ETA's acceptance of a proposal and an award of federal funds to sponsor any program(s) does not provide a waiver of any grant requirements and/or procedures. For example, applicable OMB Circulars require, and applicant and subapplicant procurement procedure(s) must require, that all procurement transactions are conducted, as much as practical, to provide open and free competition. If a proposal identifies a specific entity to provide services, the DOL/ETA's award does not provide the justification or basis to sole-source the procurement, i.e., it does not authorize the applicant to avoid competition when procuring these services.

C. Hand Delivered Proposals

If proposals are hand delivered, they must be received at the address identified above by February 12, 2002, at 4 p.m., Eastern Time. All overnight mail will be considered to be hand delivered and must be received at the designated place by 2:00 p.m., on the specified closing date. Telegraphed and/or faxed proposals will not be accepted. Failure to adhere to the above instructions will be a basis for a determination of nonresponsiveness.

D. Late Proposals

A proposal received at the designated office after the exact time specified for receipt will not be considered unless it is received before award is made and it:

1. Was sent by registered or certified mail not later than the fifth calendar day before the date specified for receipt of applications (e.g., a proposal submitted in response to a solicitation requiring receipt of applications by the 19th of the month must be mailed by the 14th);

2. Was sent by U.S. Postal Service Express Mail Next Day Service, Post Office to addressee, not later than 5 p.m. at the place of mailing two working days prior to the date specified for proposals. The term “working days” excludes weekends and U.S. Federal holidays.

The only acceptable evidence that an application was sent in accordance with these requirements is a printed, stamped, or otherwise placed impression (exclusive of a postage meter machine impression) that is readily identifiable without further action as having been supplied or affixed on the date of mailing by employees of the U.S. Postal Service.

E. Period of Performance

The initial period of performance will be 24 months from the date of execution of the grant documents. It is anticipated that about $20 million will be disbursed under this announcement. U.S. Department of Labor may extend these grants for an additional period not to exceed 12 months, with or without additional funding, based on the availability of funds and successful program operation.

F. Definitions for Purposes of This Solicitation

Technical skills training may be generally defined as the Atraining services' described in section 134(d)(4)(D) of WIA (29 U.S.C. 2864(d)(4)(D)). The H-1B Technical Skills Training Grant emphasizes training in high-demand, high-level skills to individuals where there is a shortage of qualified workers. Training may include a combination of academic and work-place learning, including on-the-job training, and instruction, as well as customized training to meet the needs of individual participants and/or the needs of individual employers. Customized training that is developed in partnership with an employer (or group of employers) must be accompanied by an employer=s commitment to hire those trainees upon successful completion of the training. Training may be provided to American citizens and nationals and immigrants authorized by the Attorney General to work in the United States, which includes lawfully admitted permanent resident aliens, refugees, asylees, and parolees, and other immigrants authorized by the Attorney General to work in the United States. Note that workers admitted under non-immigrant visas, such as the H-1B program and related programs, are not eligible for training with these grant funds.

Region may be defined as an area which exhibits a commonality of economic interest. A region may be comprised of more than one labor market area or be one large labor market, one labor market area joined together with adjacent rural districts, special purpose districts, and contiguous and non-contiguous Local Boards. A region may be either intrastate or interstate, and may be identical to the boundry of a single Local Board.

Career Ladders may generally be defined as a system of career options which encourage opportunities for professional growth and upward mobility.

Older Workers are those who meet the age standard prescribed in the Older Americans Act (42 USC 3056)—fifty five years or older—who are seeking full-time employment.

G. Matching Funds

Applicants must demonstrate the ability to obtain resources equivalent to at least 100 percent of the grant award amount as a match. Additionally, at least 50 percent of the match must be from the businesses or business related non-profit involved. This statutory match may be provided in cash or in-kind contributions. Federal resources may not be counted against the matching requirement. The provision of essential capital equipment, such as computers and furniture, is allowed as part of the match. The match may also include supportive services not paid for with federal funds. The amount and nature of the match must be clearly described in the application.

The 100 percent matching requirement is designed to assist grantees in initiating sustainability for the proposed project. The Department is particularly interested that the applicants demonstrate clear evidence that matching resources will sustain training activities after the expiration of the grant. Although matches may be one-time occurrences, applicants are encouraged to seek partnerships that reflect a commitment, financially and non-financially, to the future success of the proposed program.

Part II—Statement of Work/Reporting Requirements

A. Principles

Five basic key principles underlie this effort:

Partnership Sustainability: The primary focus of these awards is technical skills training. The statutory 100 percent non-Federal matching requirement is an integral part of ensuring sustainability because the matching resources are expected to help extend the skills shortages training effort beyond the term of the grant. The requirement that at least one-half of the matching funds must come from the business sector partners is designed to ensure the direct and active participation of employers whose labor needs can be filled by this program. This partnership sustainability concept relates to two rating criteria: Links with Key Partners and Sustainability (the resources each partner offers and the role of external resources in building the foundation for a permanent partnership).

Current Skills Gap: Access to training to fill current local or regional skills shortages is the immediate focus of this initiative. Training investments should be targeted in occupational areas that have been identified on the basis of H-1B occupations as skills shortage areas. This key principle relates to two criteria: Statement of Need and Service Delivery Strategy (the innovative manner in which skills training will meet the skill needs of the region.)

Innovative and Effective Tools: The grantees will use innovative or proven tools and approaches, that may include on-the-job training, to close particular skills gaps and provide strategies for training that promote regional development. This principle relates to two criteria: Service Delivery Strategy in which innovation is encouraged, and Cost Effectiveness. Innovative training programs may result in better employment outcomes and higher levels of skill achieved by those participants for the same cost.

Target Population: Technical skills training under ACWIA, as amended, is geared towards employed and unemployed workers who can be trained and placed directly in highly skilled H-1B occupations (See Attachment B for examples of these occupations). Training may be provided to American citizens and nationals and immigrants authorized by the Attorney General to work in the United States, which includes lawfully admitted permanent resident aliens, refugees, asylees, and parolees, and other immigrants authorized by the Attorney General. Note that workers admitted under non-immigrant visas, such as the H-1B program and related programs, are not eligible for training with grant funds. Up to 5 additional points will be awarded for special efforts to include outreach to target women, minorities, persons with disabilities, older workers, and workers in rural areas. This key principle is related to the Target Population rating criterion.

Career Ladders: Employees at the H-1B skills level are generally characterized as having a Bachelor=s degree or comparable work experience. H-1B technical skills training is targeted to but not limited to skills levels commensurate with a 4-year degree. The training may prepare workers for a broad range of positions along a career ladder. ACareer ladder” may generally be defined as a system of career options which encourage opportunities for professional growth and upward mobility. The technical skills training can include a broad range of positions along a career ladder that eventually lead to a high skills level job. Thus, potential trainees are not required to enter training with a 4-year degree. Additionally, trainees are not expected to acquire a 4-year degree to be successful. Career ladders create opportunities for individuals who may vary in experience and education levels (such as vocational training and Associates= degrees) to advance along a career ladder and qualify for H-1B related occupations.

B. Skills Shortages

Section 414(c) of ACWIA, as amended (29 USC 2916a0, mandates that the grants awarded under this authority be used for technical skills training to employed and unemployed workers. The basis of the funding for the grants is a user fee paid with the H-1B visa application by an employer seeking highly-skilled personnel to fill high-skill shortages in American industries. Training must focus on occupations that are experiencing skills shortage in the domestic job market. The long-term goal of the program is to train American workers in the necessary/appropriate skills to fill shortages in highly skilled industries.

C. Skills Standards

Skills standards represent a benchmark by which an individual's achieved competence can be measured. Work in this area has been performed by private industry and trade associations, registered apprenticeship training systems, and public and private partnerships (including the Job Corps). Well-defined skills standards can be useful tools in matching training goals to targeted occupational areas. Applicants are encouraged to survey the progress to date in developing occupational skills standards in their communities, such as establishing a clearly defined set of expectations for the requisite capabilities of workers.

As noted earlier, the definition of the minimum proficiency level required to be considered an H-1B occupation, contained in section 214(i), of the Immigration and Naturalization Act (INA) (USC 1184(i)), speaks to a very high skills level for these “specialty occupations.” These are occupations that require “theoretical and practical application of a body of highly specialized knowledge,” and full state licensure to practice in the occupation (if it is required). These occupations also must require either completion of at least a bachelor's degree or experience in the specialty equivalent to the completion of such degree and recognition of expertise in the specialty through progressively responsible positions relating to the specialty.

D. Regional Planning

As applicable, applicants must describe the local area or region that will be served with particular emphasis on its skills shortages. The proposal also must identify the governmental jurisdictions to be included and provide an enumeration of the specific local areas that are served under WIA. Although comprehensive occupational vacancy data are unavailable, current H-1B applicant data should be utilized to the extent feasible to describe occupational shortages. Attachment B to this solicitation is a listing by occupations for which H-1B visas are being sought as shown by the most current H-1B applicant data. Requests for H-1B visas for the applicant's region may reflect a skills shortage of those occupations, as well.

Applicants are encouraged to utilize all available state and local data, including that provided by area businesses and business associations, in making determinations of regional shortages. Applicants are encouraged to analyze data made available by their state labor market information (LMI) organization, the Bureau of Labor Statistics (BLS), and through the local One-Stop delivery system, www.servicelocator.org.

E. Service Delivery and Supportive Services

Applicants should carefully describe the skills training that will be provided under the grant in the context of the goals that are to be achieved by participants. ACWIA, states that consideration will be given to applicants who commit to provide at least one of three target outcomes for participants who complete training. These outcomes are the hiring or effecuate the hiring of unemployed trainees, increased wages or salaries of employed workers, and receipt of skill certificates documenting skills acquisition or a link to industry accepted occupational skill standards, certificates, or licensing requirements (29 U.S.C. 2916a(4)(A)).

ACWIA, requires that at least 80 percent of grants be awarded to projects which target occupations in high technology, information technology and biotechnology. For example, this includes skills needed in software and communications services, telecommunications, systems installation and integration, computers and communications hardware, advanced manufacturing, health care technology, biotechnology and biomedical research and manufacturing, and innovation services. Not more than 20 percent of the available funds may be awarded for training in any single specialty occupation, as defined by section 214(i) of the Immigration and Nationalization Act (8 U.S.C. 1184(i)). A response to the Statement of Work criterion should provide a detailed discussion of the kinds of training to be provided and the mechanisms to be used to provide it. Applicants must include in their work statement a discussion of the types of skills training being provided, the targeted skills levels, how the skills will be measured, and how skills shortages in the local area or region will be met through this training.

Grant funds may not be used to provide supportive services. However, applicants may need to make a range of supportive services available to enhance the quality and effectiveness of the skill training provided under the grant. Appropriately focused services, as defined by section 101(46) of WIA (29 U.S.C. 2801(46))—such as transportation or childcare—are considered as important enhancements to the technical skills training package. In order to provide a full range of supportive services, applicants may build linkages to the One-Stop Career Center network. Successful applicants are encouraged to leverage such Federal resources as part of making the technical skills training project more effective. Applicants are also encouraged to use their own non-federal funds to provide supportive services as part of the matching requirement or leveraged Federal resources from other sources. Additional federal resources cannot be counted toward the matching requirement.

Where possible, applicants are encouraged to form partnerships with local Workforce Investment Boards (“Local Boards”). WIA requires Local Boards to prepare a strategic workforce investment plan for the areas that they embrace. Local Boards also designate One-Stop service center operators (Local Boards don't select eligible training providers). In short, Local Boards already are engaged in much of the necessary work that could provide a solid foundation for the training activities to be undertaken under ACWIA, as amended.

F. Reporting Requirements

The grantee is required to provide the reports and documents listed below:

• Quarterly Financial Reports. The grantee must submit to the Grant Officer's Technical Representative (GOTR) within the 30 days following each quarter, two copies of a quarterly Financial Status Report (Standard Form 269) until such time as all funds have been expended or the period of availability has expired.

• Progress Reports. The grantee must submit a narrative with the quarterly reports to the GOTR within the 30 days following each quarter. Two copies are to be submitted providing a detailed account of activities undertaken during that quarter including:

1. A discussion of the occupational areas for which skills training is being provided;

2. The number of individuals currently in training, the number who have successfully completed training and the number who are unsuccessful or who have dropped out of training;

3. Job placements in skills shortage occupations of unemployed workers;

4. Wage increases in skills shortage occupations of employed workers;

a. Number of skill certifications received or training completions to industry accepted occupational skill standards, certifications or licensing requirements; and

b. An indication of any current problems which may affect performance and proposed corrective action.

• Final Report. A draft final report which summarizes project activities and employment outcomes and related results of the demonstration must be submitted no later than the expiration date of the grant. One original and two copies of the final report must be submitted no later than 60 days after the grant expiration date.

G. Evaluation

As required by ACWIA, as amended, applications must include an agreement that the program or project shall be subject to evaluation (or evaluations) by the Secretary of Labor to measure their effectiveness. To learn from these skill training grants, ETA will arrange for or conduct an independent evaluation of the outcomes, impacts, and benefits of the demonstration projects. Evaluation findings will help ETA identify promising practices and approaches that will be disseminated throughout the publicly-funded workforce system. Grantees must agree to make records on participants, employers and funding available and to provide access to program operating personnel and to participants, as specified by the evaluator(s) under the direction of ETA, including after the period of operation.

Part III—Review Process & Rating Criteria

A careful evaluation of applications will be made by a technical review panel who will evaluate the applications against the criteria listed below. The panel results are advisory in nature and not binding on the Grant Officer. The Government may elect to award the grant with or without discussions with the offeror. In situations without discussions, an award will be based on the offeror's signature on the (SF) 424, which constitutes a binding offer. In making her determination, the Grant Officer may consider any relevant information that comes to her attention. The Grant Officer will make final award decisions based upon what is most advantageous to the Federal Government in terms of geographical mix, technical quality and other factors.

1. Statement of Need (15 points)

ACWIA, as amended, is a response to skills shortages around the country in specific occupations. The most recent H-1B application data are provided as Attachment B to this solicitation. Applicants should clearly describe the local area or region for which services are to be provided and the skills shortages prevalent in the region.

ACWIA, as amended, specifies that grant funds may be used only to carry out a strategy that would otherwise not be eligible for funds provided under the Local Workforce Investment Board based grant, due to barriers in meeting those partnership eligibility criteria, on a national, multi-state, regional, or rural area (such as rural telework programs) basis. These barriers must be specified here. The applicant must provide sufficient detail on such barriers to justify why application is not made on a local basis through a Local Board. Failure to adequately fulfill this criterion will result in disqualification of the application.

The applicant is encouraged to utilize all available data resources to assure that its description of need is relevant to local labor market shortages, as applicable to the business partnership or business-related nonprofit. Establishing viable partnerships are essential. In responding to this criterion, applicants can make use of information that can include, but is not limited to, state labor market information, H-1B applications, census data, newspaper want ads, expressed employer hiring demands, and information from the One-Stop system. Descriptive items about the local area or region, such as whether it is rural or urban, should be included. (What high technology needs and opportunities exist in the region? What are the particular characteristics of the local political, economic and administrative jurisdictions—Local Boards, labor market areas, or special district authorities—that led them to associate for the purpose of this application?)

A general description of the local area or region should include socioeconomic data, with a particular focus on the general education and skills level prevalent in the area. Applicants are encouraged to include information such as transportation patterns, and statistical and demographic information (e.g., age and income data). Other germane information that will provide greater depth of description include:

• What is the general business environment.

• What industries and occupations are growing and declining.

• What types of skills are being sought in the local area or region by the major employers in general, and the partnership member companies, in particular.

2. Service Delivery Strategy (25 points)

Applicants must lay out a comprehensive strategy for providing the technical skills training that is mandated as the core activity of these grant awards. A brief discussion of the impact of skills training in response to the identified skills shortages of the region should be included. Specific issues that must be addressed as part of this section include:

• The range of potential training providers, the types of skills training that will be offered, how the training will meet the local area or regional skills needs, and how the training will be provided.

• What steps will be taken to reach out to potential community(ies) to provide information about the project and planned training activities.

• How will the types of training planned for project participants be determined.

We encourage applicants to be innovative in the training services they provide. Innovation in the context of service delivery can represent a wide variety of items. Innovation may be implemented in the manner in which training services are provided—e.g., new partnerships to provide or participate in training, use of technology (such as distance learning to provide instruction, interactive video self-instructional materials), and flexible class scheduling (sections of the same class scheduled at different times of the day to accommodate workers whose schedules fluctuate). Creativity in developing the service strategy also is encouraged.

3. Target Population (10 points, 5 bonus points)

The eligibility criteria for skills training enumerated in ACWIA 2000 are extremely broad and include employed and unemployed workers. Training may be provided to American citizens and nationals and to immigrants authorized by the Attorney General to work in the United States, which includes lawfully admitted permanent resident aliens, refugees, asylees, and parolees, and other immigrants authorized by the Attorney General. Note that workers admitted under non-immigrant visas, such as H-1B and related programs, are not eligible for training with these grant funds. This section should clearly identify the targeted workers, including their characteristics, and explain why they are targeted. A discussion of what assessment procedures are to be used is critical. The applicant should address some specific issues relating to the target employed worker population such as:

• How many employed workers will be targeted for services and why.

• The technical skills training needs of those workers to fulfill skills shortage occupations.

• The selection process for workers, both employed and unemployed, should be carefully described to make it clear how those individuals will be determined to possess the capacity after the completion of training to accept jobs that previously were filled via the H-1B visa process. In the case of unemployed workers, an extensive discussion of the criteria to be used to assess and enroll individuals should be included.

• The applicant should describe the outreach methods to target minorities, women, individuals with disabilities, older workers, and individuals in rural areas. Applicants who effectively target such workers will be awarded up to 5 additional points.

4. Sustainability (10 points)

Applicants must demonstrate a statutory 100 percent match to the resources for proposed projects. At least one-half of these funds must come from the business partners or business-related nonprofit organizations involved. Matches may either be in cash or in-kind contributions. Federal resources may not be counted against the matching requirement. Applicants must describe to what extent the partners are providing matching funds or services and how this contribution assists in building the foundation for a permanent partnership, i.e., sustainability. Partnerships and matching resources are considered an integral element of the project, as they support and strengthen the quality of the technical skills training provided and contribute materially toward sustainability.

We encourage applicants to give preference for identifying other resources both Federal and non-Federal, because they can contribute materially toward quality outcomes and sustainability. (Note that although Federal resources may not be counted as match, they may be counted to demonstrate the project sustainability.) Applicants are also encouraged to establish relationships with State and Local Workforce Investment Boards and relevant state agencies, as they may provide valuable assistance and resources that can contribute to the success and sustainability of a proposed project. Applicants should enumerate these resources in this section to support their discussion of sustainability and also describe any specific existing contractual commitments. The sustainability issue can be addressed by providing concrete evidence that activities supported by the proposal will be continued after the expiration date of the grant by using other public or private resources.

5. Linkages With Key Partners (15 points)

The applicant should identify the partners and how they will interact together, i.e., what role each will play and what resources each partner will offer. In particular, this section should identify partnerships with the private and public sectors, including ties with small and medium-sized businesses and small business federations. The Service Delivery Strategy section of the Statement of Work describes the role of each of the actors in delivering the proposed services, while this section is intended to look at the linkages from a more structural perspective with particular emphasis on the employers in the consortium that are experiencing skills shortages and how the proposal will train participants to meet employers' needs.

ETA also is interested in the extent of the involvement of small businesses in the partnership. Consideration will be given to any partnership that involves and directly benefits more than one small business (each consisting of 100 employees or less).

6. Outcomes (15 points)

Applicants must describe the predicted outcomes resulting from this training. It is estimated that the projected results will be somewhat varied given the broad range of people who will probably be served. For example, employed workers are more likely to be trained to achieve a higher skills level than most unemployed workers. Participant success can be determined through placements in H-1B skills shortage occupations, increased wages, or skills attainment in H-1B occupations, or in training for or placement in positions on a career ladder toward such skills attainment.

There are, however, unemployed workers, including dislocated workers who have been laid off permanently from their jobs through no fault of their own, who may well already possess a very high skills level. They could receive additional technical skills training to enhance their skills.

The outcomes for this group may be projected in terms of gaining new employment and skills attainment.

Outcomes for employed workers may be at a somewhat higher level than for those unemployed workers who do not possess similar skills at the outset. Because of the differing skill levels and backgrounds of participants in an H-1B training program, the outcomes section should discuss proposed gains attained for individual participants in context of their backgrounds and skill levels when they entered. Therefore, the focus of the discussion in this section should emphasize very specifically the benefits that occur because of the training. For example, an applicant might state that a certain skills level is projected for a given group and indicate what change in skills that represents and how that might translate into an increase in earnings.

The application must identify the occupations participants will be trained in. Please identify each occupation in terms of skills in high technology, information technology and biotechnology, including skills needed for software and communication services, telecommunications, systems installation and integration, computers and communications hardware, advanced manufacturing, health care technology, bio-technology and biomedical research and manufacturing and innovation services, or in terms of other high skilled specialty occupations.

Consideration in the award of grants will be given to applicants which commit to achieving one or more of the following outcome goals upon successful completion of a training program:

(1) The hiring of or effecuate the hiring of unemployed trainees (if applicable);

(2) Increases in the wages or salaries of already employed trainees (if applicable); and

(3) Awards of skills certifications to trainees or linking the training to industry-accepted occupational skill standards, certificates or licensing requirements.

7. Cost Effectiveness (10 points)

Applicants will provide a detailed cost proposal, including a discussion of the expected cost effectiveness of their proposal in terms of the expected cost per participant compared to the expected benefits for these participants. Applicants should address the employment outcomes, increased salary, promotion or retention and the levels of skills to be achieved (such as attaining state licensing in an occupation) relative to the amount of training that the individual needed to receive to achieve those outcomes. Benefits can be described both qualitatively in terms of skills attained and quantitatively in terms of wage gains.

Cost effectiveness may be demonstrated in part by cost per participant and cost per activity in relation to services provided and outcomes to be attained. This section MUST contain a detailed discussion of the size, nature, and quality of the non-Federal match. Proposals not presenting a detailed discussion of the non-Federal match or not meeting the statutory 100 percent match requirement, or not demonstrating that businesses or business-related nonprofit organizations involved provide at least half the match will be considered non-responsive and will not be considered.

The application must specify a management entity, the resumes of major staff members and detailed descriptions of the roles of various entities participating in the partnership. Each application MUST designate an individual who will serve as project director and who will devote a substantial portion of his/her time to the project, which may be defined as at least 40 percent. A short portion of this discussion should describe the organizational capacity and track record in high skill training and related activities of the primary actors in the partnership.

Signed in Washington, DC, this 11th day of December, 2001.
James W. Stockton,
Grant Officer.

Appendix A: Legislative Mandate

Appendix B: Selected H-1B Professional, Technical and Managerial Occupations, and Fashion Models: Number of Job Openings Certified by the U.S. Department of Labor, Fiscal Year 2000 (Oct. 1, 1999-Feb. 29, 2000)

Appendix C: (SF) 424-Application Form

Appendix D: Budget Information Form

Appendix A. Legislative Mandate

The relevant portions of ACWIA 2000, and the Immigration and Nationality Act dealing with the establishment of a fund for implementing a program of H-1B skill training grants state:

Immigration and Nationality Act, Section 286(s), (8 U.S.C. 1356(s))—H-1B NONIMMIGRANT PETITIONER ACCOUNT

(1) IN GENERAL—There is established in the general fund of the Treasury a separate account, which shall be known as the “H-1B Nonimmigrant Petitioner Account.”

Notwithstanding any other section of this title, there shall be deposited as offsetting receipts into the account all fees collected under section 214(c)(9) of the Immigration and Nationality Act (8 U.S.C. 1184 (c)(9)).

(2) USE OF FEE FOR JOB TRAINING—55 percent of amounts deposited into the H-1B Nonimmigrant Petitioner Account shall remain available to the Secretary of Labor until expended for demonstration programs and projects described in section 414(c) of the American Competitiveness and Workforce Improvement Act of 1998 (29 U.S.C. 2916a).

SEC. 414(c) OF ACWIA (29 U.S.C. 2916a) DEMONSTRATION PROGRAMS AND PROJECTS TO PROVIDE TECHNICAL SKILLS TRAINING FOR WORKERS.—

(1) IN GENERAL.—(A) FUNDING.—The Secretary of Labor shall use funds available under section 286(s)(2) of the Immigration and Nationality Act (8 U.S.C. 1356(s)(2)) to establish demonstration programs or projects to provide technical skills training for workers, including both employed and unemployed workers.

(B) TRAINING PROVIDED.—Training funded by a program or project described in subparagraph (A) shall be for persons who are currently employed and who wish to obtain and upgrade skills as well as for persons who are unemployed. Such training is not limited to skill levels commensurate with a four-year undergraduate degree, but should include the preparation of workers for a broad range of positions along a career ladder. Consideration shall be given to the use of grant funds to demonstrate a significant ability to expand a training program or project through such means as training more workers or offering more courses, and training programs or projects resulting from collaborations, especially with more than one small business or with a labor-management training program or project. The need for the training shall be justified through reliable regional, State, or local data.

(2) GRANTS.—(A) ELIGIBILITY.—To carry out the programs and projects described in paragraph (1)(A), the Secretary of Labor shall, in consultation with the Secretary of Commerce, subject to the availability of funds in the HB1B Nonimmigrant Petitioner Account, award—

(i) 75 percent of the grants to a local workforce investment board established under section 116(b) or section 117 of the Workforce Investment Act of 1998 (29 U.S.C. 2831(b), 2832) or consortia of such boards in a region. Each workforce investment board or consortia of boards receiving grant funds shall represent a local or regional public-private partnership consisting of at least—

(I) One workforce investment board;

(II) One community-based organization or higher education institution or labor union; and

(III) One business or business-related non-profit organization such as a trade association: Provided, That the activities of such local or regional public-private partnership described in this subsection shall be conducted in coordination with the activities of the relevant local workforce investment board or boards established under the Workforce Investment Act of 1998 (29 U.S.C. 2832); and

(ii) 25 percent of the grants under the Secretary of Labor's authority to award grants for demonstration projects or programs under section 171 of the Workforce Investment Act (29 U.S.C. 2916) to partnerships that shall consist of at least 2 businesses or a business-related nonprofit organization that represents more than one business, and that may include any educational, labor, community organization, or workforce investment board, except that such grant funds may be used only to carry out a strategy that would otherwise not be eligible for funds provided under clause (i), due to barriers in meeting those partnership eligibility criteria, on a national, multistate, regional, or rural area (such as rural telework programs) basis. (emphasis added)

(B) DESIGNATION OF RESPONSIBLE FISCAL AGENTS.—Each partnership formed under subparagraph (A) shall designate a responsible fiscal agent to receive and disburse grant funds under this subsection.

(C) PARTNERSHIP CONSIDERATIONS.—Consideration in the awarding of grants shall be given to any partnership that involves and directly benefits more than one small business (each consisting of 100 employees or less).

(D) ALLOCATION OF GRANTS.—In making grants under this paragraph, the Secretary shall make every effort to fairly distribute grants across rural and urban areas, and across the different geographic regions of the United States. The total amount of grants awarded to carry out programs and projects described in paragraph (1)(A) shall be allocated as follows:

(i) At least 80 percent of the grants shall be awarded to programs and projects that train employed and unemployed workers in skills in high technology, information technology, and biotechnology, including skills needed for software and communications services, telecommunications, systems installation and integration, computers and communications hardware, advanced manufacturing, health care technology, biotechnology and biomedical research and manufacturing, and innovation services.

(ii) No more than 20 percent of the grants shall be available to programs and projects that train employed and unemployed workers for skills related to any single specialty occupation, as defined in section 214(i) of the Immigration and Nationality Act (8 U.S.C. 1184(i)).

(3) START-UP FUNDS.—(A) IN GENERAL.—Except as provided in subparagraph (B), not more than 5 percent of any single grant, or not to exceed $75,000, whichever is less, may be used toward the start-up costs of partnerships or new training programs and projects.

(B) EXCEPTION.—In the case of partnerships consisting primarily of small businesses, not more than 10 percent of any single grant, or $150,000, whichever is less, may be used toward the start-up costs of partnerships or new training programs and projects.

(C) DURATION OF START-UP PERIOD.—For purposes of this subsection, a start-up period consists of a period of not more than 2 months after the grant period begins, at which time training shall immediately begin and no further Federal funds may be used for start-up purposes.

(4) TRAINING OUTCOMES.—(A) CONSIDERATION FOR CERTAIN PROGRAMS AND PROJECTS.—Consideration in the awarding of grants shall be given to applicants that provide a specific, measurable commitment upon successful completion of a training course, to—

(i) Hire or effectuate the hiring of unemployed trainees (where applicable);

(ii) Increase the wages or salary of incumbent workers (where applicable); and

(iii) Provide skill certifications to trainees or link the training to industry-accepted occupational skill standards, certificates, or licensing requirements.

(B) REQUIREMENTS FOR GRANT APPLICATIONS.—Applications for grants shall—

(i) Articulate the level of skills that workers will be trained for and the manner by which attainment of those skills will be measured;

(ii) Include an agreement that the program or project shall be subject to evaluation by the Secretary of Labor to measure its effectiveness; and

(iii) In the case of an application for a grant under subsection (c)(2)(A)(ii), explain what barriers prevent the strategy from being implemented through a grant made under subsection (c)(2)(A)(i).

(5) MATCHING FUNDS.—Each application for a grant to carry out a program or project described in paragraph (1)(A) shall state the manner by which the partnership will provide non-Federal matching resources (cash, or in-kind contributions, or both) equal to at least 50 percent of the total grant amount awarded under paragraph (2)(A)(i), and at least 100 percent of the total grant amount awarded under paragraph (2)(A)(ii). At least one-half of the non-Federal matching funds shall be from the business or businesses or business-related nonprofit organizations involved. Consideration in the award of grants shall be given to applicants that provide a specific commitment or commitments of resources from other public or private sources, or both, so as to demonstrate the long-term sustainability of the training program or project after the grant expires.

(6) ADMINISTRATIVE COSTS.—An entity that receives a grant to carry out a program or project described in paragraph (1)(A) may not use more than 10 percent of the amount of the grant to pay for administrative costs associated with the program or project.” The Immigration and Nationality Act (INA)(section 101(a)(15)( H)(i)(b), 8 U.S.C. 11011(a)(15)(H)(i)(b)) defines the H-1B alien as one who is coming temporarily to the United States to perform services in a specialty occupation or as a fashion model.

The IMMIGRATION AND NATIONALIZATION ACT (Section 214(i)) 8 U.S.C. 1184(i) defines the term “specialty occupation” as:

(1)(A) Theoretical and practical application of a body of highly specialized knowledge and,

(B) Attainment of a bachelor's or higher degree in the specific specialty (or its equivalent) as a minimum for entry into the occupation in the United States

(2) For purposes of section 101(a)(15)(H)(i)(b)), the requirements of this paragraph with respect to a specialty occupation are—

(A) Full state licensure to practice in the occupation, if such licensure is required to practice in the occupation.

(B) Completion of the degree described in paragraph (1)(B) for the occupation, or

(C)(i) Experience in the specialty equivalent to the completion of such degree, and (ii) recognition of expertise in the specialty through progressively responsible positions relating to the specialty.

The WORKFORCE INVESTMENT ACT defines training services (Sec 134(d)(4)(D), 29 U.S.C. 2864(d)(4)(D)

(D) TRAINING SERVICES —Training services may include—

(i) Occupational skills training, including training for nontraditional employment;

(ii) On-the-job training;

(iii) Programs that combine workplace training with related instruction, which may include cooperative education programs;

(iv) Training programs operated by the private sector;

(v) Skill upgrading and retraining;

(vi) Entrepreneurial training;

(vii) Job readiness training;

(viii) Adult education and literacy activities provided in combination with services described in any of clauses (i) through (vii); and

(ix) Customized training conducted with a commitment by an employer or group of employers to employ an individual upon successful completion of the training.

WIA prohibits discrimination against certain non-citizens in the provision of services, including the demonstration grant program under which this program is conducted. (Sec 188(a)(5), 29 U.S.C. 2938(a)(5):

Participation in programs and activities or receiving funds under this title shall be available to citizens and nationals of the United States, lawfully admitted permanent resident aliens, refugees, asylees, and parolees, and other immigrants authorized by the Attorney General to work in the United States.

WIA also specifies that participants comply with the Military Selective Service Act. (Sec. 189, (h), 29 U.S.C. 2939):

The Secretary shall ensure that each individual participating in any program or activity established under this title (Title I of the Workforce Investment Act), or receiving any assistance or benefit under this title, has not violated section 3 of the Military Selective Service Act (50 U.S.C. App. 453) by not presenting and submitting to registration as required pursuant to such section. The Director of the Selective Service System shall cooperate with the Secretary to enable the Secretary to carry out this subsection.

Appendix B

H-1B Program—Summary Data FY '92-FY '00
| Number of LCA's ¹ certified | Number of job openings certified ²
FY '92 | 43,808 | 120,776
FY '93 | 62,285 (+42.2%) | 127,652 (+5.7%)
FY '94 | 84,898 (+36.3%) | 270,014 (+111.5%)
FY '95 | 97,040 (+14.3%) | 312,563 (+15.8%)
FY '96 | 120,512 (+24.2%) | 246,725 (−21.1%)
FY '97 | 162,363 (+34.7%) | 398,324 (+61.4%)
FY '98 | 208,156 (+28.2%) | 591,635 (+48.5%)
FY '99 | 275,244 (+32.2%) | 1,207,874 (+104.2%)
FY '00 | 332,545 (+10.1%) | 1,187,053 (−1.7%)
¹ Labor Certified Applicants.
² Note that while there is generally a 195,000 limit on the number of visas which may be issued each fiscal year, there is no corresponding limit on the number of job openings which may be certified by the Department.

Top 10 Occupational Classifications in FY '00
| Number of openings certified | Percent of total
1. Computer-related ³ | 852,657 | 71.8
2. Accountants/Auditors | 46,375 | 3.9
3. Electrical/Electron Eng. | 41,071 | 3.5
4. Other Architecture, Engineering & Surveying | 26,634 | 2.2
5. College/University Faculty | 18,164 | 1.5
6. Miscellaneous Managers | 16,990 | 1.4
7. Budget & Management System Analyst | 15,117 | 1.3
8. Physicians & Surgeons | 13,700 | 1.2
9. Mis. Professional, Tech. & Manag. Occ. | 13,426 | 1.1
10. Economists | 13,171 | 1.1
Total Top 10 | 1,057,305 | 89.1
Other Occupations | 129,748 | 10.9
³ Occupations in: Systems Analysis/Programming; Computer Systems Technical Support, Data Communications and Networks; Computer System User Support; and other Computer-related.

Top 10 Occupational Classifications in FY '99
| Number of openings certified | Percent of total
1. Computer-related | 579,631 | 48.0
2. Therapists | 311,411 | 25.8
3. Accountants/Auditors | 58,831 | 4.9
4. Other Administrative | 38,320 | 3.2
5. Electrical/Electron Eng. | 26,947 | 2.2
6. Other Architecture, Engineering & Surveying | 19,404 | 1.6
7. Physicians & Surgeons | 16,695 | 1.4
8. College/University Faculty | 14,962 | 1.2
9. Mis. Managers and Officials | 13,048 | 1.1
10. Mis. Professional, Tech. & Mana. Occ. | 11,636 | 1.0
Total Top 10 | 1,090,885 | 90.3
Other Occupations | 116,989 | 9.7

Top 10 Occupational Classifications in FY '98
| Number of openings certified | Percent of Total
1. Computer-related | 340,231 | 57.5
2. Therapists | 80,605 | 13.6
3. Accountants/Auditors | 42,713 | 7.2
4. Electrical/Electron Eng. | 16,640 | 2.8
5. Other Architecture, Engineering & Surveying | 8,605 | 1.5
6. Physicians/Surgeons | 7,941 | 1.3
7. Mis. Professional, Tech. & Mana. Occ. | 7,827 | 1.3
8. College/University Faculty | 7,721 | 1.3
9. Mechanical Engineers | 5,994 | 1.0
10. Economist | 5,343 | 0.9
Total Top 10 | 523,620 | 88.5
Other Occupations | 68,015 | 11.5

Top 10 Occupational Classifications in FY '97
| Number of openings certified | Percent of Total
1. Computer related | 177,034 | 44.4
2. Therapists | 103,097 | 25.9
3. Electrical/Electron Eng. | 12,366 | 3.1
4. Accountants/Auditors | 9,865 | 2.5
5. University Faculty | 8,052 | 2.0
6. Physicians/Surgeons | 7,360 | 1.8
7. Other Architecture, Engineering & Surveying | 6,488 | 1.6
8. Mechanical Engineers | 5,585 | 1.4
9. Miscellaneous Occup. | 5,427 | 1.4
10. Economists | 4,677 | 1.1
Total Top 10 | 335,057 | 84.1
Other Occupations | 63,267 | 15.9

Top 10 Occupational Classifications in FY '96
| Number of openings certified | Percent of Total
1. Computer-related | 102,422 | 41.5
2. Therapists | 48,154 | 19.5
3. Other Medicine/Health | 12,010 | 4.9
4. College/University Faculty | 7,070 | 2.9
5. Registered Nurses | 6,117 | 2.5
6. Accountants/Auditors | 6,040 | 2.4
7. Physicians/Surgeons | 5,796 | 2.3
8. Miscellaneous Occup. | 4,389 | 1.8
9. Mechanical Engineering | 4,112 | 1.7
Other Architecture, Engineering & Surveying | 3,774 | 1.5
Total Top 10 | 199,884 | 81.0
Other Occupations | 46,841 | 19.0

Top 10 Occupational Classifications in FY '95
| Number of openings Certified | Percent of Total
1. Therapists | 167,209 | 53.5
2. Computer-related | 79,921 | 25.6
3. College/University Faculty | 6,478 | 2.1
4. Physicians/Surgeons | 5,629 | 1.8
5. Accountants/Auditors | 4,757 | 1.5
6. Miscellaneous Occup. | 3,703 | 1.2
7. Other Medicine/Health | 3,345 | 1.1
8. Other Architecture, Engineering & Surveying | 3,318 | 1.1
9. Mechanical Engineering | 3,149 | 1.0
10. Biological Sciences | 2,710 | .9
Total Top 10 | 280,219 | 89.7
Other Occupations | 32,344 | 10.3

BILLING CODE 4510-30-P

BILLING CODE 4510-30-C

[FR Doc. 01-30922 Filed 12-13-01; 8:45 am]

BILLING CODE 4510-30-P